DEPARTMENT OF STATE

[Public Notice 6490]

Notice of Meeting

Title: Shipping Coordinating Committee; Notice of Meeting.

The Shipping Coordinating Committee (SHC) will conduct an open meeting at 9:30 a.m. on Wednesday, February 18, 2009, in Room 6103 of the United States Coast Guard Headquarters building, 2100 Second Street, SW., Washington, DC 20593. The primary purpose of the meeting is to prepare for the 13th session of the Sub-Committee on Bulk Liquids and Gases (BLG 13) of the International Maritime Organization (IMO) to be held March 2-6, 2009 at the IMO's London Headquarters. The primary matters to be considered at BLG 13 include:

—Evaluation of safety and pollution hazards of chemicals and preparation of consequential amendments;

—Application of the requirements for the carriage of bio-fuels and bio-fuel blends;

—Development of guidelines and other documents for uniform implementation of the 2004 International Convention for the Control and Management of Ships' Ballast Water and Sediments (BWM Convention);

—Development of provisions for gas-fuelled ships;

—Casualty analysis;

—Consideration of International Association of Classification Societies (IACS) unified interpretations;

—Development of international measures for minimizing the transfer of invasive aquatic species through bio-fouling of ships;

—Review of the Recommendation for material safety data sheets for MARPOL Annex I cargoes and marine fuel oils;

—Revision of the International Code for the Construction and Equipment of Ships Carrying Liquefied Gases in Bulk (IGC Code);

—Safety requirements for natural gas hydrate pellet carriers;

—Review of relevant non-mandatory instruments as a consequence of the amended MARPOL Annex VI and the NOX Technical Code; and

—Amendments to MARPOL Annex I on the use and carriage of heavy grade oil on ships in the Antarctic area.

Members of the public may attend the meeting up to the seating capacity of the room. Interested persons may seek information by writing: Mr. T. J. Felleisen, U.S. Coast Guard (CG-5223), Room 1210, 2100 Second Street, SW., Washington, DC 20593-0001 or by calling (202) 372-1424.

Dated: January 21, 2009.
Mark Skolnicki,
Executive Secretary, Shipping Coordinating Committee, Department of State.

[FR Doc. E9-1931 Filed 1-28-09; 8:45 am]

BILLING CODE 4710-07-P